DEPARTMENT OF ENERGY

Federal Energy Regulatory Commission

Combined Notice of Filings

Take notice that the Commission has received the following Natural Gas Pipeline Rate and Refund Report filings:

Docket Number: PR20-73-000.

Applicants: DTE Gas Company.

Description: Tariff filing per 284.123(b),(e)/: DTE Gas Operating Statement Update to be effective 10/1/2020.

Filed Date: 9/23/2020.

Accession Number: 202009235044.

Comments/Protests Due: 5 p.m. ET 10/14/2020.

Docket Numbers: RP20-1208-000.

Applicants: Iroquois Gas Transmission System, L.P.

Description: § 4(d) Rate Filing: 092420 Negotiated Rates—Castleton Commodities Merchant Trading L.P. R-4010-24 to be effective 11/1/2020.

Filed Date: 9/24/20.

Accession Number: 20200924-5023.

Comments Due: 5 p.m. ET 10/6/20.

Docket Numbers: RP20-1209-000.

Applicants: Iroquois Gas Transmission System, L.P.

Description: § 4(d) Rate Filing: 092420 Negotiated Rates—Citadel Energy Marketing LLC R-7705-02 to be effective 11/1/2020.

Filed Date: 9/24/20.

Accession Number: 20200924-5024.

Comments Due: 5 p.m. ET 10/6/20.

Docket Numbers: RP20-1210-000.

Applicants: Iroquois Gas Transmission System, L.P.

Description: § 4(d) Rate Filing: 092420 Negotiated Rates—Citadel Energy Marketing LLC R-7705-03 to be effective 11/1/2020.

Filed Date: 9/24/20.

Accession Number: 20200924-5033.

Comments Due: 5 p.m. ET 10/6/20.

Docket Numbers: RP20-1211-000.

Applicants: Iroquois Gas Transmission System, L.P.

Description: § 4(d) Rate Filing: 092420 Negotiated Rates—DTE Energy Trading, Inc. R-1830-14 to be effective 11/1/2020.

Filed Date: 9/24/20.

Accession Number: 20200924-5038.

Comments Due: 5 p.m. ET 10/6/20.

Docket Numbers: RP20-1212-000.

Applicants: Iroquois Gas Transmission System, L.P.

Description: § 4(d) Rate Filing: 092420 Negotiated Rates—Mercuria Energy America, LLC R-7540-02 to be effective 11/1/2020.

Filed Date: 9/24/20.

Accession Number: 20200924-5041.

Comments Due: 5 p.m. ET 10/6/20.

Docket Numbers: RP20-1213-000.

Applicants: Southwest Gas Transmission Company.

Description: § 4(d) Rate Filing: Cover Page Contact Information- Address Change to be effective 9/28/2020.

Filed Date: 9/24/20.

Accession Number: 20200924-5052.

Comments Due: 5 p.m. ET 10/6/20.

Docket Numbers: RP20-1214-000.

Applicants: Enable Mississippi River Transmission, LLC.

Description: § 4(d) Rate Filing: 2020 MRT Annual Fuel Filing to be effective 11/1/2020.

Filed Date: 9/24/20.

Accession Number: 20200924-5131.

Comments Due: 5 p.m. ET 10/6/20.

Docket Numbers: RP20-1215-000.

Applicants: Algonquin Gas Transmission, LLC.

Description: Compliance filing AGT 2020 OFO Penalty Disbursement Report.

Filed Date: 9/24/20.

Accession Number: 20200924-5138.

Comments Due: 5 p.m. ET 10/6/20.

Docket Numbers: RP20-1216-000.

Applicants: Enable Mississippi River Transmission, LLC.

Description: Annual Penalty Revenue Credit Report of Enable Mississippi River Transmission, LLC under RP20-1216.

Filed Date: 9/24/20.

Accession Number: 20200924-5146.

Comments Due: 5 p.m. ET 10/6/20.

Docket Numbers: RP20-1217-000.

Applicants: Transcontinental Gas Pipe Line Company, LLC.

Description: § 4(d) Rate Filing: Rate Schedule SS-2 Tracker Filing eff September 1, 2020 and October 1, 2020 to be effective 9/1/2020.

Filed Date: 9/25/20.

Accession Number: 20200925-5006.

Comments Due: 5 p.m. ET 10/7/20.

Docket Numbers: RP20-1218-000.

Applicants: ANR Pipeline Company.

Description: § 4(d) Rate Filing: SENA Negotiated Rate Agreement to be effective 11/1/2017.

Filed Date: 9/25/20.

Accession Number: 20200925-5011.

Comments Due: 5 p.m. ET 10/7/20.

Docket Numbers: RP20-1219-000.

Applicants: Gulf South Pipeline Company, LLC.

Description: § 4(d) Rate Filing: Non-conforming Agmt Filing (FPL 52990) to be effective 11/1/2020.

Filed Date: 9/25/20.

Accession Number: 20200925-5018.

Comments Due: 5 p.m. ET 10/7/20.

Docket Numbers: RP20-1221-000.

Applicants: Trunkline Gas Company, LLC.

Description: Compliance filing Annual Report of Flow Through filed 9-25-20.

Filed Date: 9/25/20.

Accession Number: 20200925-5052.

Comments Due: 5 p.m. ET 10/7/20.

Docket Numbers: RP20-1224-000.

Applicants: Texas Eastern Transmission, LP.

Description: § 4(d) Rate Filing: Negotiated Rates—Chevron 911109 Releases eff 10-01-2020 to be effective 10/1/2020.

Filed Date: 9/25/20.

Accession Number: 20200925-5084.

Comments Due: 5 p.m. ET 10/7/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2020.
Nathaniel J. Davis, Sr.,
Deputy Secretary.

[FR Doc. 2020-21831 Filed 10-1-20; 8:45 am]

BILLING CODE 6717-01-P